DEPARTMENT OF DEFENSE

Department of the Air Force

Notice of Intent To Grant an Exclusive Patent License

AGENCY: Department of the Air Force, DoD.

ACTION: Notice of intent.

SUMMARY: Pursuant to the provisions of Part 404 of Title 37, Code of Federal Regulations, which implements Public Law 96-517, as amended, the Department of the Air Force announces its intention to grant Hybrid Plastics Inc., a Mississippi corporation, having a place of business at 55 W.L. Runnels Ind. Road, Hattiesburg, MS 39401; two exclusive licenses in any right, title and interest the Air Force has in the following three U.S. Patents:

License 1: U.S. Patent 6,362,279, issued 26 March 2002, entitled “Preceramic Additives as Fire Retardants for Plastics”, Joseph D. Lichtenhan and Jeffrey W. Gilman—Inventors.

License 2: U.S. Patent 6,660,823, issued 9 December 2003, entitled “Modifying POSS Compounds”, Joseph D. Lichtenhan, Frank J. Feder and Daravong Soulivong—Inventors.

U.S. Patent 6,770,724, issued 3 August 2004, entitled “Altering of POSS Rings”, Joseph D. Lichtenhan, Timothy S. Haddad, Frank J. Feher and Daravong Soulivong—Inventors.

DATES: Any objection to the grant of either of the above licenses must be submitted in writing and received within fifteen (15) days from the date of publication of this Notice in the Federal Register in order to be considered.

FOR FURTHER INFORMATION CONTACT: Written objection should be sent to: Air Force Materiel Command Law Office, AFMCLO/JAZ, 2240 B Street, Room 100, Wright-Patterson AFB OH 45433-7109. Telephone: (937) 255-2838; facsimile (937) 255-3733.

Bao-Anh Trinh,
Air Force Federal Register Liaison Officer.

[FR Doc. 06-7277 Filed 8-30-06; 8:45 am]

BILLING CODE 5001-06-P